DEPARTMENT OF DEFENSE

Department of the Air Force

32 CFR Part 842

Administrative Claims

CFR Correction

This rule is being published by the Office of the Federal Register to correct an editorial or technical error that appeared in the most recent annual revision of the Code of Federal Regulations.

In Title 32 of the Code of Federal Regulations, Parts 800 to End, revised as of July 1, 2021, in § 842.55, reinstate paragraph (r) to read as follows:

§ 842.55 Claims not payable

* * * * *

(r) Is one for which a foreign government is responsible under SOFA, treaty, or other agreement. However, AFLOA/JACC may authorize payment of a claim where the foreign government refuses to recognize its legal responsibilities and the claimant has no other means of compensation.

* * * * *

[FR Doc. 2022-14301 Filed 6-30-22; 8:45 am]

BILLING CODE 0099-10-P